DEPARTMENT OF HOMELAND SECURITY

Federal Emergency Management Agency

New Products and Updated Fee Schedule for National Flood Insurance Program Map and Insurance Products

AGENCY: Federal Emergency Management Agency (FEMA), Emergency Preparedness and Response Directorate, Department of Homeland Security.

ACTION: Notice.

SUMMARY: This Notice contains several new products and the updated fee schedule for processing requests for the National Flood Insurance Program (NFIP) map and insurance products available through the FEMA Map Service Center (MSC). The changes in the fee schedule include two new products and will allow FEMA to reduce further the expenses to the NFIP by recovering more fully the costs associated with producing, retrieving, and distributing particular NFIP map and insurance products.

DATES: The updated fee schedule is effective for all requests dated, August 1, 2003, or later.

FOR FURTHER INFORMATION CONTACT: Kathy L. Miller, Acting Chief, Information Exchange and Program Evaluation Branch, Mitigation Division, 500 C Street, SW., Washington, DC 20472; by telephone at (202) 646-3316 or by facsimile at (202) 646-4596 (not toll-free calls), by e-mail at Kathy.Miller@DHS.GOV.

SUPPLEMENTARY INFORMATION: Throughout this Notice, we use “we,” “our,” and “us” to refer to FEMA.

This Notice contains an updated fee schedule to include two new products available through the MSC.

Effective Date. The updated fee schedule is effective for all written requests, on-line internet requests made through the FEMA Flood Map Store, and all telephone requests received on or after August 1, 2003.

Evaluations Performed. To develop the revised fee schedule for the new products, we first evaluated the actual costs incurred at the MSC for producing, retrieving, and distributing these products. We then analyzed historical sales, cost data, and product unit costs for unusual trends or anomalies; analyzed the effect of program changes, new products, technology investments, and other factors on future sales and product costs. The products covered by this Notice are discussed below.

Periodic Evaluation of Fees. As indicated in the Notice, published at 67 FR 13764, March 26, 2002, a primary component of the fees is the prevailing private sector rates charged to FEMA for labor and materials. Because these rates and the actual production, retrieval, and distribution costs may vary from year to year, we will evaluate the fees periodically and publish a revised fee schedule, when appropriate, as a notice in the Federal Register.

Fee Schedule for Requests for Map and Insurance Products

The MSC distributes a variety of NFIP map and insurance products to a broad range of our customers, including Federal, State, and local government officials; real estate professionals; insurance providers; appraisers; builders; land developers; design engineers; surveyors; lenders; homeowners; and other private citizens. Specifically, the MSC distributes the following products:

• Paper (printed) copies of Flood Hazard Boundary Maps (FHBMs);

• Paper (printed) copies of Flood Insurance Rate Maps (FIRMs);

• Paper (printed) copies of Digital Flood Insurance Rate Maps (DFIRMs);

• Paper (printed) copies of Flood Insurance Study (FIS) reports, including the narrative, tables, Flood Profiles, photographs, and other graphics;

• Paper (printed) copies of Flood Boundary and Floodway Maps (FBFMs), when they are included as an exhibit in the FIS;

• Digital Q3 Flood Data files, which FEMA developed by scanning the published FIRM and vectorizing a thematic overlay of flood risks;

• Digital Q3 Flood Data files for Coastal Barrier Resource Areas (CBRA Q3 Flood Data files);

• Community Status Book, which is a report generated by FEMA's Community Information System database that provides pertinent map status information for all identified communities;

• Flood Map Status Information Service (FMSIS), through which FEMA provides status information for effective NFIP maps;

• Letter of Map Change (LOMC) Subscription Service, through which FEMA makes certain types of LOMCs available biweekly on CD-ROM;

• NFIP Insurance Manual (Full Manual), which provides vital NFIP information for insurance agents nationwide;

• NFIP Insurance Manual (Producer's Edition), which is used for reference and training purposes;

• Community Map Action List (CMAL), which is a bimonthly list of communities and their NFIP status codes;

• Maps on the Web—raster images of the FIRMs and Floodways in TIFF format;

• FIS on the Web—raster images of FIS in PDF format;

• Maps on CDs—includes only the raster images of the maps and can be purchased by panel or in community, county, or State kits;

• F-MIT Light on the Web—a free downloadable flood map image view tool, to be used in conjunction with viewing TIFF images, that supports panning, zooming, and creating a “firmette”. A firmette is a user-defined “cut-out” section of the map at 100% map scale designed for printing on a standard office printer;

• F-MIT Light on CD—same as F-MIT Light on the Web, designed for use with the Flood Map CD without a Database; and

• FEMA's Guidelines and Specifications for Flood Hazard Mapping Partners on CD: This document combines previous FEMA publications, guidance documents, and memorandums regarding Flood Hazard Mapping. The Guidelines reflect recent changes to processes and products associated with the implementation of the Map Modernization Program, including the Cooperating Technical Partners initiative, new Project Scoping procedures, and DFIRM specifications.

The MSC is now adding two new products, which are denoted by an asterisk in the table. The following is a description of the MSC's new products:

• Community or County Databases—a digital version of the maps that is designated for use with Geographic Information Systems (GIS) software to allow users to access, view, and analyze mapping information using specialized data; and

• FMIT Pro on CD—a view and address look up tool designed for use with the community or county databases.

For more information on the map and insurance products available from the MSC, we invite interested parties to visit our MSC Web site at http://www.msc.fema.gov/.

There are no changes in the processing fees or shipping costs for any of the other products that the MSC distributes. Federal, State, and local governments continue to be exempt from paying fees for the map products. The fee schedules for the current and new products are shown in the table below.

Description of product of service | Fee | Shipping charge
Paper Products:
FHBM, FIRM, DFIRM, or FBFM (floodway) panels | $2.00 per map panel | $0.37 per panel for the first 10 panels plus $0.03 for each additional panel.
FIS (not including FBFM panels that are included as exhibit) | $5.00 per FIS volume plus $2.00 per floodway map | $4.00 for the first study volume plus $0.40 for each additional study.
Hurry Charge-Added to regular charge | $33.00 | N/A.
Internet Products (products downloadable from the web):
FHBM, FIRM, DFIRM, or FBFM (floodway) panels | $1.50 per map panel | None.
FIS | $4.00 per study plus $1.50 per floodway map | None.
F-MIT Light (view tool for map images) on the web | Free | Not Applicable.
* F-Mit Pro (Viewtool & address look-up) | $30.00 | Not Applicable.
FIRMette (A user defined portion of the FIRM printable on a desktop printer) | Free Viewing and downloading | Not Applicable.
CD Products:
FHBM, FIRM, DFIRM, or FBFM (floodway) panels | $1.50 per map panel | $3.65 for the first 4 CD-ROMs plus $0.10 for each additional CD-ROM.
* Community or County Database | $10.00 per database | $3.65 for the first 4 CD-ROMs plus $0.10 for each additional CD-ROM.
FIS | $4.00 per FIS volume plus $1.50 per floodway map | $3.65 for the first 4 CD-ROMs plus $0.10 for each additional CD-ROM.
* F-MIT Light (view tool for map images) | Free | $3.65.
* F-MIT Pro (view tool & address look- up) | $30.00 | $3.65.
Other Products:
Q3 Flood Data Files | $50.00 per CD-ROM | $3.65 for the first 4 CD-ROMs, plus $0.10 for each additional CD-ROM in the same order.
CBRA Q3 Flood Data Files | $50.00 per CD-ROM or $200.00 for all 5 Q3 CDs | $3.65 for the first 4 CD-ROMs, plus $0.10 for each additional CD-ROM in the same order.
Community Status Book (Individual Orders) | $2.50 per State $20.50 for entire U.S | $1.00 per State $4.26 for entire U.S.
Community Status Book (Annual Subscription) | $50.00 per State $250.00 for entire U.S | Not applicable.
FMSIS (Individual Orders) | $13.00 per State $38.00 for entire U.S | 3.65 for the first 4 CD-ROMs, plus $0.10 for each additional CD-ROM in the same order.
FMSIS (Annual Subscription) | $148.00 per State $419.00 for entire U.S | Not applicable.
LOMC Subscription Service (Individual Orders) | $85.00 per issue | $3.65 for the first 4 CD-ROMs, plus $0.10 for each additional CD-ROM in the same order.
LOMC Subscription Service (Annual Subscription) | $2,000.00 | Not applicable.
NFIP Insurance Manual (Full Manual) | $25.00 per subscription for complete manual | Not applicable.
NFIP Insurance Manual (Producer's Edition) | $15.00 per subscription | Not applicable.
FEMA's Guidelines and Specifications for Flood Hazard Mapping Partners on CD-ROM | $2.60 | $3.65.

Payment Submission Requirements

Fee payments for non-exempt requests must be made to us in advance of services being rendered. These payments shall be made in the form of a check, a money order, or by a credit card payment. Checks and money orders must be made payable, in U.S. funds, to the National Flood Insurance Program.

We will deposit all fees collected to the National Flood Insurance Fund, which is the source of funding for providing these services.

Anthony S. Lowe,
Mitigation Division Director, Emergency Preparedness and Response Directorate.

[FR Doc. 03-18652 Filed 7-22-03; 8:45 am]

BILLING CODE 6718-04-P